DEPARTMENT OF HOMELAND SECURITY

Office of the Secretary

Notice of Availability for Memorandum on Rescission of Deferred Action for Childhood Arrivals

AGENCY: Office of the Secretary, Department of Homeland Security.

ACTION: Notice of availability.

SUMMARY: In a memorandum dated September 5, 2017, the Acting Secretary of the Department of Homeland Security (DHS) rescinded the June 15, 2012 DHS memorandum entitled “Exercising Prosecutorial Discretion with Respect to Individuals Who Came to the United States as Children.” The September 5, 2017 memorandum is available on the DHS Web site at the following location: https://www.dhs.gov/news/2017/09/05/memorandum-rescission-daca.

SUPPLEMENTARY INFORMATION: On June 15, 2012, then Secretary of Homeland Security Janet Napolitano issued a memorandum entitled “Exercising Prosecutorial Discretion with Respect to Individuals Who Came to the United States as Children.” The 2012 memorandum established the policy known as Deferred Action for Childhood Arrivals (DACA).

On September 5, 2017, Acting Secretary of Homeland Security Elaine Duke issued a memorandum entitled “Rescission of the June 15, 2012 Memorandum Entitled `Exercising Prosecutorial Discretion with Respect to Individuals Who Came to the United States as Children.' ” The September 5, 2017 memorandum rescinded the June 15, 2012 memorandum and directed DHS personnel to take all appropriate actions to execute a wind-down of the DACA program consistent with the parameters established in the memorandum. The September 5, 2017 memorandum is available on the DHS Web site at the following location: https://www.dhs.gov/news/2017/09/05/memorandum-rescission-daca.

Dated: September 11, 2017.
Elaine C. Duke,
Acting Secretary of Homeland Security.

[FR Doc. 2017-19794 Filed 9-15-17; 8:45 am]

BILLING CODE 9111-97-P